ENVIRONMENTAL PROTECTION AGENCY

40 CFR Part 52

[EPA-R03-OAR-2014-0701; FRL-9971-70—Region 3]

Approval and Promulgation of Air Quality Implementation Plans; District of Columbia; Interstate Transport Requirements for the 2010 1-Hour Sulfur Dioxide Standard; Withdrawal of Direct Final Rule

AGENCY: Environmental Protection Agency (EPA).

ACTION: Withdrawal of direct final rule.

SUMMARY: Due to receipt of adverse comment, the Environmental Protection Agency (EPA) is withdrawing the direct final rule to approve revisions to the District of Columbia state implementation plan (SIP) pertaining to the infrastructure requirement for interstate transport of pollution with respect to the 2010 1-hour sulfur dioxide (SO2) national ambient air quality standards (NAAQS). In the direct final rule published on Wednesday, October 18, 2017 (82 FR 48439), EPA stated that if we received adverse comment by November 17, 2017, the rule would be withdrawn and not take effect. EPA subsequently received adverse comment. EPA will address the comments received in a subsequent final rulemaking action based upon the proposed action, also published on Wednesday, October 18, 2017 (82 FR 48472). EPA will not institute a second comment period on this action.

DATES: The direct final rule published at 82 FR 48439 on October 18, 2017 is withdrawn effective December 8, 2017.

FOR FURTHER INFORMATION CONTACT: Joseph Schulingkamp, (215) 814-2021, or by email at schulingkamp.joseph@epa.gov.

SUPPLEMENTARY INFORMATION: On July 17, 2014, the District of Columbia (the District) through the District Department of Energy and the Environment (DDOEE) submitted a SIP revision addressing the infrastructure requirements under section 110(a)(2) of the Clean Air Act (CAA) for the 2010 1-hour SO2 NAAQS. In the direct final rule published on October 18, 2017 (82 FR 48439), EPA stated that if EPA received adverse comments by November 17, 2017, the rule would be withdrawn and not take effect. EPA subsequently received adverse comments from anonymous commenters.

Because adverse comments were received, EPA is withdrawing the direct final rule approving the revision to the District of Columbia SIP pertaining to the interstate transport requirements for the SO2 NAAQS promulgated by EPA on October 18, 2017 (82 FR 48439). EPA will respond to the adverse comments in a separate final rulemaking action.

List of Subjects in 40 CFR Part 52

Environmental protection, Air pollution control, Incorporation by reference, Reporting and recordkeeping requirements, Sulfur oxides.

Dated: November 22, 2017.
Cosmo Servidio,
Regional Administrator, Region III.

Accordingly, the amendments to 40 CFR 52.470 published on October 18, 2017 (82 FR 48439) are withdrawn effective December 8, 2017.

[FR Doc. 2017-26404 Filed 12-7-17; 8:45 am]

BILLING CODE 6560-50-P